DEPARTMENT OF COMMERCE

International Trade Administration

[A-570-905]

Certain Polyester Staple Fiber From the People's Republic of China: Continuation of Antidumping Duty Order

AGENCY: Import Administration, International Trade Administration, Department of Commerce.

DATES: Effective October 12, 2012.

SUMMARY: As a result of the determinations by the Department of Commerce (“Department”) and the International Trade Commission (“ITC”) that revocation of the antidumping duty order on certain polyester staple fiber from the People's Republic of China (“PRC”) would likely lead to a continuation or recurrence of dumping and material injury to an industry in the United States, the Department is publishing a notice of continuation of the antidumping duty order.

FOR FURTHER INFORMATION CONTACT: Jerry Huang, AD/CVD Operations, Import Administration, International Trade Administration, U.S. Department of Commerce, 14th Street and Constitution Avenue NW., Washington, DC 20230; telephone: (202) 482-4047.

SUPPLEMENTARY INFORMATION: On May 1, 2012, the Department published the notice of initiation of the sunset review of the antidumping duty order on certain polyester staple fiber from the PRC pursuant to section 751(c)(2) of the Tariff Act of 1930, as amended (“the Act”).¹

¹ See Initiation of Five-Year (“Sunset”) Review; Correction, 77 FR 28355 (May 14, 2012) (“Sunset Initiation”).

As a result of its review, the Department determined that revocation of the antidumping duty order on certain polyester staple fiber from the PRC would likely lead to a continuation or recurrence of dumping and, therefore, notified the ITC of the magnitude of the margin of dumping likely to prevail should the order be revoked.²

² See Certain Polyester Staple Fiber from the People's Republic of China: Final Results of Expedited Sunset Review of the Antidumping Duty Order, 77 FR 54898 (September 6, 2012).

On October 4, 2012, the ITC determined, pursuant to section 751(c)(1) of the Act, that revocation of the antidumping duty order on PSF from the PRC would likely lead to a continuation or recurrence of material injury to an industry in the United States within a reasonably foreseeable future.³

³ See Certain Polyester Staple Fiber from China Determination, 77 FR 60720 (October 4, 2012), and USITC Publication 4351 (September 2012), Certain Polyester Staple Fiber from China, Investigation No. 731-TA-1104 (Review).

Scope of the Order

The merchandise subject to the order is certain polyester staple fiber defined under the scope of the order as synthetic staple fibers, not carded, combed or otherwise processed for spinning, of polyesters measuring 3.3 decitex (3 denier, inclusive) or more in diameter. Certain polyester staple fiber subject to the order is currently classifiable in the Harmonized Tariff Schedule of the United States (“HTSUS”) at subheadings 5503.20.0045 (3.3 to 13.2 decitex) and 5503.20.00.65 (13.2 decitex or greater). Although the subheadings are provided for convenience and customs purposes, the written product description, available in Notice of Antidumping Duty Order: Certain Polyester Staple Fiber From the People's Republic of China, 72 FR 30545 (June 1, 2007), remains dispositive.

Continuation of the Order

As a result of these determinations by the Department and the ITC that revocation of the antidumping duty order would likely lead to a continuation or recurrence of dumping and material injury to an industry in the United States, pursuant to section 751(d)(2) of the Act, the Department hereby orders the continuation of the antidumping order on certain polyester staple fiber from the PRC. U.S. Customs and Border Protection will continue to collect antidumping duty cash deposits at the rates in effect at the time of entry for all imports of subject merchandise. The effective date of the continuation of the order will be the date of publication in the Federal Register of this notice of continuation. Pursuant to sections 751(c)(2) and 751(c)(6) of the Act, the Department intends to initiate the next five-year review of the order not later than 30 days prior to the fifth anniversary of the effective date of continuation.

This five-year (sunset) review and this notice are in accordance with section 751(c) of the Act and published pursuant to section 777(i)(1) of the Act.

Dated: October 4, 2012.
Paul Piquado,
Assistant Secretary for Import Administration.

[FR Doc. 2012-25169 Filed 10-11-12; 8:45 am]

BILLING CODE 3510-DS-P